ENVIRONMENTAL PROTECTION AGENCY

[EPA-HQ-OW-2007-1126; FRL-8498-8]

Notice of Availability and Request for Comment on Draft Plan of Action for Reducing, Mitigating, and Controlling Hypoxia in the Northern Gulf of Mexico and Improving Water Quality in the Mississippi River Basin

AGENCY: Environmental Protection Agency (EPA).

ACTION: Notice of Availability and Request for Public Comment.

SUMMARY: The Environmental Protection Agency (EPA), on behalf of the Mississippi River/Gulf of Mexico Watershed Nutrient Task Force (Task Force), invites public comments on the draft Gulf Hypoxia Action Plan 2008 for Reducing, Mitigating, and Controlling Hypoxia in the Northern Gulf of Mexico and Improving Water Quality in the Mississippi River Basin (2008 Action Plan). The Task Force is comprised of senior policymakers from eight Federal agencies, nine States, and two Tribal governments. The Action Plan is the result of several years of study and discussion by the members of the Task Force and many interested officials and citizens who participated in their deliberations.

DATES: Comments must be received on or before January 4, 2008. All comments received during the formal comment period will be reviewed and delivered to the Mississippi River/Gulf of Mexico Watershed Nutrient Task Force for their consideration prior to the development of the final Action Plan. Late comments will be considered as time allows. Submission of comments prior to the end of the comment period is highly encouraged.

ADDRESSES: Submit your comments, identified by Docket ID No. EPA-HQ-OW-2007-1126, by one of the following methods:

• Web: Visit www.regulations.gov or http://www.epa.gov/msbasin/. Follow the online instructions for submitting comments.

• Mail: U.S. Environmental Protection Agency, Docket ID No. EPA-HQ-OW-2007-1126, EPA Docket Center (EPA/DC), Water Docket, MC 2822T, 1200 Pennsylvania Avenue, NW., Washington, DC 20460.

• FedEx, UPS, or Hand Delivery: U.S. EPA Docket Center, Attention Docket EPA-HQ-OW-2007-1126, 1301 Constitution Ave., Room 3334, Washington, DC 20460. Such deliveries are only accepted during the Docket's normal hours of operation, and special arrangements should be made for deliveries of boxed information.

Instructions: Direct your comments to Docket ID No. EPA-HQ-OW-2007-1126. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Greg Colianni, U.S. EPA, Office of Wetlands, Oceans, and Watersheds, 1200 Pennsylvania Avenue, NW., Mail Code 4504T, Washington, DC 20460 (202) 566-1249; Internet: OW-Hypoxia@epa.gov. The draft Action Plan below, as well as related information, may be reached via the EPA Web site: at http://www.epa.gov/msbasin/.

SUPPLEMENTARY INFORMATION:

I. General Information

Additional Comment Information: Comments may also be submitted electronically. Comments should be sent to the following Internet address: OW-Hypoxia@epa.gov.

II. Background

In January 2001, pursuant to section 604(b) of Public Law 105-383, the Harmful Algal Bloom and Hypoxia Research and Control Act of 1998, Title VI, enacted on November 13, 1998, the Task Force published its first Action Plan, 2001 Plan of Action for Reducing, Mitigating, and Controlling Hypoxia in the Northern Gulf of Mexico. The Task Force has updated this initial plan through a multiple-step reassessment which is reflected in the current draft 2008 Action Plan and will culminate in the 2008 Action Plan. The draft 2008 Action Plan reflects the Task Force's efforts over the past six years to track progress, update the science, and adapt the actions to improve the effectiveness of the efforts throughout the Mississippi River Basin. Building on the 2001 Action Plan, the plan lays out specific steps that need to be accomplished to reach the goals. It also reiterates the long-term goals and continues the Task Force's commitment to a voluntary and adaptive management approach to improve water quality in the Mississippi River Basin and reduce the size of the hypoxic zone in the northern Gulf of Mexico. This adaptive management approach involves continual feedback between the interpretation of new information and improved management actions and is the key to targeting actions within watersheds where they will be most effective.

Information about the Task Force and its reassessment can be found at the following Web site: http://www.epa.gov/msbasin/.

The draft 2008 Action Plan can be viewed and downloaded by navigating to the following Web site: http://www.epa.gov/msbasin/.

Dated: November 19, 2007.
Benjamin Grumbles,
Assistant Administrator for Water.

[FR Doc. E7-22899 Filed 11-21-07; 8:45 am]

BILLING CODE 6560-50-P